DEPARTMENT OF COMMERCE

International Trade Administration

[A-405-803]

Purified Carboxymethylcellulose From Finland: Final Results of Changed Circumstances Review and Revocation of the Antidumping Duty Order

AGENCY: Enforcement and Compliance, International Trade Administration, Department of Commerce.

SUMMARY: On July 8, 2015, the Department of Commerce (the Department) published its initiation and preliminary results ¹ of a changed circumstances review (CCR), preliminarily determining to revoke the antidumping duty (AD) Order ² on purified carboxymethylcellulose (CMC) from Finland. We invited interested parties to comment on the Preliminary Results. We received no comments. Thus, we make no changes to our preliminary determination in these final results of changed circumstances review and hereby revoke the Order in toto.

¹ See Purified Carboxymethylcellulose From Finland: Initiation and Preliminary Results of Changed Circumstances Review and Consideration of Revocation of the Antidumping Duty Order, 80 FR 39058 (July 8, 2015) (Preliminary Results).

² See Notice of Antidumping Duty Orders: Purified Carboxymethylcellulose From Finland, Mexico, the Netherlands and Sweden, 70 FR 39734 (July 11, 2005) (the Order).

DATES: Effective Date: August 26, 2015.

FOR FURTHER INFORMATION CONTACT: Victoria Cho, or Robert James, AD/CVD Operations, Office VI, Enforcement and Compliance, International Trade Administration, U.S. Department of Commerce, 14th Street and Constitution Avenue NW., Washington, DC 20230; telephone: (202) 482-5075 or (202) 482-0649, respectively.

SUPPLEMENTARY INFORMATION:

Background

On May 15, 2015, in accordance with sections 751(b) and 751(d)(1) of the Tariff Act of 1930, as amended (the Act), 19 CFR 351.216(b), 19 CFR 351.222(g)(1), and 19 CFR 351.221(c)(3)(ii), Ashland Specialty Ingredients, G.P. (Ashland), the petitioner and sole domestic producer of CMC, requested revocation of the Order with respect to Finland as part of an expedited CCR. On June 8, 2015, CP Kelco Oy and its U.S. affiliate, CP Kelco U.S. Inc., (collectively, CP Kelco), the sole manufacturer of CMC in Finland and its affiliated U.S. importer, requested that the Department grant Ashland's CCR request and revoke the AD order on CMC from Finland, due to the lack of interest in continuation of the Order. On July 8, 2015, the Department preliminarily determined to revoke the Order and invited interested parties to comment on the Preliminary Results

We received no further comments from interested parties.

Scope of the Order

The merchandise covered by these orders is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this order is classified in the Harmonized Tariff Schedule of the United States at subheading 3912.31.00. This tariff classification is provided for convenience and customs purposes; however, the written description of the scope of the order is dispositive.

Final Results of Changed Circumstances Review

Section 782(h)(2) of the Act and 19 CFR 351.222(g)(1)(i) & (vi), provide that the Department may revoke an order (in whole or in part) on an expedited basis if it determines that producers accounting for substantially all of the production of the domestic like product have no further interest in the order, in whole or in part. In accordance with 19 CFR 351.222(g)(1), we find that the petitioner's affirmative statement of no interest constitutes good cause to conduct this review. On June 8, 2015, CP Kelco also filed a letter in support of Ashland's CCR request.

Ashland stated that, as the sole U.S. producer of CMC, it accounts for substantially all of the production of the domestic like product. Ashland also stated that it has no interest in the continuation of the Order.³ Therefore, at the request of Ashland and in accordance with sections 751(b)(1) and 751(d)(1) of the Act, 19 CFR 351.216, 19 CFR 351.222(g)(1)(i) & (vi), we are revoking the Order on CMC from Finland. As stated in the Preliminary Results, the revocation will be effective July 1, 2014, which is the first day of the most recent period not subject to administrative review.

³ See Ashland's May 15, 2015 submission to the Department.

Termination of Suspension of Liquidation

Because we determine that there are changed circumstances that warrant the revocation of the Order, we will instruct U.S. Customs and Border Protection to terminate the suspension of liquidation of the merchandise subject to this order entered, or withdrawn from warehouse, on or after July 1, 2014 and to release any cash deposit or bond on all unliquidated entries of the merchandise covered by the revocation that are not covered by the final results of an administrative review or automatic liquidation. Entries of subject merchandise prior to the effective date of revocation will continue to be subject to suspension of liquidation and AD deposit requirements.

Return or Destruction of Proprietary Information

This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

Notification to Interested Parties

We are issuing and publishing these final results and notice in accordance with sections 751(b)(1) and 777(i)(1) of the Act and 19 CFR 351.216, 351.221(c)(3), and 351.222(g)(vii).

Dated: August 18, 2015.
Paul Piquado,
Assistant Secretary for Enforcement and Compliance.

[FR Doc. 2015-21046 Filed 8-25-15; 8:45 am]

BILLING CODE 3510-DS-P